FEDERAL COMMUNICATIONS COMMISSION

Public Information Collections Approved by Office of Management and Budget

January 12, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Dana Jackson, Federal Communications Commission, 445 12th Street, SW., Washington DC 20554, (202) 418-2247 or via the Internet at Dana.Jackson@fcc.gov.

SUPPLEMENTARY INFORMATION: OMB Control No.: 3060-0422.

OMB Approval date: 11/12/2004.

Expiration Date: 11/30/2007.

Title: Section 68.5, Waivers (Application for Waiver of Hearing Aid Compatibility Requirements).

Form No.: N/A.

Estimated Annual Burden: 10 responses; 30 total annual burden hours; 3 hours per respondent.

Needs and Uses: Telephone manufacturers seeking a waiver of 47 CFR 68.5, which requires that certain telephones be hearing aid compatible, must demonstrate that compliance with the rule is technologically infeasible or too costly. Information is used by FCC staff to determine whether to grant or dismiss the request.

OMB Control No.: 3060-0439.

OMB Approval date: 12/20/2004.

Expiration Date: 12/31/2007.

Title: Section 64.201, Regulations Concerning Indecent Communications by Telephone.

Form No.: N/A.

Estimated Annual Burden: 10,200 responses; 1,632 total annual burden hours; 0.16 hours (10 minutes) average per respondent.

Needs and Uses: Under Section 223 of the Communications Act of 1932, as amended, telephone companies are required, to the extent technically feasible, who has not previously requested access. 47 CFR 64.201 implements Section 223 and contains several information collections requirements: (1) A requirement that certain common carriers block access to indecent messages unless the subscriber seeks access from the common carrier (telephone company) in writing; (2) A requirement that adult message service providers notify their carriers of the nature of their programming; and (3) A requirement that a provider of adult message services request that their carrier identify it as such in bills to its subscribers. The information requirements are imposed to ensure that minors are denied access to materials deemed indecent.

OMB Control No.: 3060-0787.

OMB Approval date: 11/30/2004.

Expiration Date: 11/30/2007.

Title: Implementation of Subscriber Carrier Selection Changes Provisions of the Telecommunications Act of 1996; Policies and Rules Concerning Unauthorized Changes of Consumers' Long Distance, CC Docket 94-129.

Form No.: N/A.

Estimated Annual Burden: 35,036 responses; 146,794 total annual burden hours; 1-10 hours per respondent.

Needs and Uses: On March 17, 2003, the FCC released the Third Order on Reconsideration and Second Further Notice of Proposed Rulemaking, CC Docket No. 94-129, FCC 03-42 (Third Order on Reconsideration), in which the Commission revised and clarified certain rules to implement section 258 of the 1996 Act. On May 23, 2003, the Commission also released an Order (CC Docket No. 94-129, FCC 03-116) clarifying certain aspects of the Third Order on Reconsideration. The rules and requirements implementing section 258 can be found primarily at 47 CFR part 64. The modified and revised rules will strengthen the ability of our rules to deter slamming, while protecting consumers from carriers that may take advantage of consumer confusion over different types of telecommunications services. This Third Order on Reconsideration also contains a Further Notice of Proposed Rulemaking, in which we seek comment on rule modification with respect to third party verifications. On July 16, 2004, the Commission released the First Order on Reconsideration and Fourth Order on Reconsideration, CC Docket Nos. 94-129 and 00-257, FCC 04-153 (Reconsideration Order), which the Commission modified rule 64.1120(e)(3)(iii). As noted, when subscribers are switched between carriers as a result of negotiated sale or transfer or the exiting carrier's bankruptcy, we believe the acquiring carrier should generally be responsible for carrier change charges associated with a negotiated sale or transfer. However, while we maintain this general rule rather than adopting either SBC's or Verizon's proposed modifications, we do adopt one minor modification to the rule for particular, limited circumstances. Specifically, when an acquiring carrier acquires customers by default “ other than through bankruptcy “ and state law would require the exiting carrier to pay these costs, we will require the exiting carrier to pay such costs to meet our streamlined slamming rules. The change in the rule does not impose any new or modified information collection requirements. The modification to rule 47 CFR 64.1120(e)(3)(iii) does not affect the existing annual hourly and cost changes.

OMB Control No.: 3060-0854.

OMB Approval date: 11/30/2004.

Expiration Date: 11/30/2007.

Title: Truth-in-Billing Format, CC Docket No. 98-170.

Form No.: N/A.

Estimated Annual Burden: 10,788 responses; 1,565,755 total annual burden hours; 5-465 hours per respondent.

Needs and Uses: The Commission adopted rules to make consumers' telephone bills easier to read and understand. Telephone bills do not provide necessary information in a user-friendly format. As a result, consumers are experiencing difficulty in understanding their bills, in detecting fraud, in resolving billing disputes, and in comparing carrier rates to get the best values for themselves. Consumers use this information to help them understand their telephone bills. Consumers need this information to protect them against fraud and to help resolve billing disputes if they wish.

Federal Communications Commission.
Marlene H. Dortch,
Secretary.

[FR Doc. 05-920 Filed 1-14-05; 8:45 am]

BILLING CODE 6712-01-P